DEPARTMENT OF ENERGY

[Number DE-PS36-03GO93004]

Inventions and Innovation Program

AGENCY: Golden Field Office, Department of Energy (DOE).

ACTION: Notice of solicitation for financial assistance applications.

SUMMARY: The Department of Energy's Office of Energy Efficiency and Renewable Energy (EERE), Weatherization and Intergovernmental Program, is funding a competitive grant program entitled the Inventions and Innovation (I&I) Program. The goals of the I&I Program are to improve energy efficiency through the promotion of innovative ideas and inventions that have a significant, potential energy impact and a potential, future commercial market. The following EERE offices and programs are of particular interest to I&I: Biomass Program; Building Technologies Program; Distributed Energy & Electric Reliability Program; Federal Energy Management Program; FreedomCAR & Vehicle Technologies Program; Geothermal Technologies Program; Hydrogen, Fuel Cells & Infrastructure Technologies Program; Industrial Technologies Program; Solar Energy Technology Program; Weatherization & Intergovernmental Program; and Wind & Hydropower Technologies Program.

DATES: DOE issued the solicitation on February 13, 2003. The deadline for receipt of applications will be 3 p.m. Mountain Time on April 12, 2003.

ADDRESSES: All Golden Field Office (GO) solicitations will be posted on the Industry Interactive Procurement System (IIPS) Web site at http://e-center.doe.gov; however, you may access them, along with IIPS instructions, through links on the GO Web site at: http://www.golden.doe.gov/businessopportunities.html by clicking on “Solicitations.” IIPS provides the medium for disseminating solicitations, receiving financial assistance applications, and evaluating the applications in a paperless environment. Completed applications are required to be submitted via IIPS. Individuals who have the authority to enter their company into a legally binding contract/agreement and intend to submit proposals/applications via the IIPS system must register and receive confirmation that they are registered prior to being able to submit an application on the IIPS system. Questions regarding the operation of IIPS may be e-mailed to the IIPS Help Desk at IIPS_HelpDesk@e-center.doe.gov or call the help desk at (800) 683-0751.

FOR FURTHER INFORMATION CONTACT: Margo Gorin, Contract Specialist, at go_I&I@nrel.gov.

SUPPLEMENTARY INFORMATION: Solicitation Specifications: Eligibility requirements include the following:

(1) Individuals that are U.S. citizens, either native-born or naturalized; (2) Small businesses (as defined by the Small Business Administration) that are incorporated and operating in the U.S. and that conduct at least 50% of the effort; or (3) Institutions of higher learning located in the U.S.—eligible to apply only under Category 1. Individual inventors and very small businesses (15 or fewer employees) are especially encouraged to participate. More than one application may be submitted by an applicant for different innovations. However, funding will be limited to one award per applicant, per cycle. Also more than one organization may be involved in an application as long as the lead organization and lead financial assistance management responsibilities are defined. The Catalog of Federal Domestic Assistance number assigned to the I&I Program is 81.036. Cost sharing by applicants and/or cooperating participants is not required but highly encouraged. In addition to direct financial contributions, cost sharing can include beneficial services or items such as manpower, equipment, consultants, and computer time that are allowable in accordance with applicable cost principles.

The Golden Field Office has been assigned the responsibility of issuing the solicitation and administering the awards. Ideas that have a significant energy savings impact and future commercial market potential are chosen for financial support through the competitive solicitation process. The I&I Program will provide financial assistance of up to $75,000 for Category 1 and up to $250,000 for Category 2 to applications that fall within the “conceptual” and “developmental” stages of development, respectively. To be considered for a Category 2 award, a bench-scale model and/or other preliminary investigations must be complete. Each award may cover a project period of up to one year for Category 1 and up to two years for Category 2.

A selection of former projects funded by the I&I Program that have reached commercial markets include the following:

• Meta-Lax Stress Relief Equipment offers distinct advantages over conventional heat treatment methods. It uses less energy, is portable, can handle any size metal part, and treats metal stress in hours versus days.

• Aero Cylinder Technology replaces conventional cylinders by combining air spring bellows into assemblies for use on machines (such as punch presses) to control motion and large masses. The air springs act as counter balancers and press cushioners to eliminate alignment problems. This proper alignment reduces downtime and compressed air losses, resulting in significant energy savings.

• Electro-Optic Inspection of Heat Exchangers is a laser-based, nondestructive evaluation system for inspecting heat exchanger tubing for internal corrosion, erosion, scale buildup, and deformation. Benefits to petrochemical, pulp and paper, and power-generation plants include reduced downtime and increased efficiency.

• Hydrodynamic Multi-Deflection Pad Bearings optimize bearing operation in high-speed, combined heat and power turbines, high-load electric motors or gear boxes, air or gas compressors, and air conditioning refrigeration equipment. Energy loss due to friction is reduced up to forty-percent by using fluids as a wedge between pads and moving parts.

Availability of Funds for FY 2003: DOE is announcing the availability of up to $1.2 million in agreement funds for Fiscal Year 2003. The awards will be made through a competitive solicitation. DOE reserves the right to fund in whole or in part any, all, or none of the proposals submitted in response to this notice.

Issued in Golden, Colorado, on February 13, 2003.
Jerry L. Zimmer,
Director, Office of Acquisition and Financial Assistance, Golden Field Office.

[FR Doc. 03-4865 Filed 2-28-03; 8:45 am]

BILLING CODE 6450-01-P